DEPARTMENT OF TRANSPORTATION

Federal Aviation Administration

14 CFR Part 71

[Docket No. FAA-2022-0057; Airspace Docket No. 21-AWA-3]

RIN 2120-AA66

Amendment of Class B Airspace Description; Atlanta, GA

AGENCY: Federal Aviation Administration (FAA), DOT.

ACTION: Final rule, technical amendment.

SUMMARY: This action amends the description of the Hartsfield-Jackson Atlanta International Airport, GA, Class B airspace area by changing the reference for defining the center point of the airspace from the “Atlanta VORTAC” to a “Point of Origin.” This action is required because the Atlanta VORTAC is scheduled for decommissioning. The Point of Origin is based on the same geographical coordinates as the Atlanta VORTAC; therefore, the change is editorial only and does not alter the currently charted boundaries, or altitudes, or the air traffic control (ATC) procedures for the Atlanta Class B airspace area.

DATES: Effective date 0901 UTC, July 14, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it makes editorial changes to an existing Class B airspace description to maintain accuracy.

History

The Atlanta, GA, Class B airspace area was established as a “Terminal Control Area (TCA)” on June 15, 1970 (35 FR 7784, May 21, 1970). In 1993, as part of the Airspace Reclassification Final Rule (56 FR 65638, December 17, 1991), the term “terminal control area” was replaced by “Class B airspace area.” The Atlanta Class B airspace area was last modified on March 3, 2013 (78 FR 1742, January 9, 2013). Currently, the Atlanta VORTAC serves as the reference point for defining the center of the Class B airspace area. The Atlanta VORTAC is also used in defining the boundaries of seven of the ten subareas that make up the Class B airspace area. The Atlanta VORTAC is scheduled to be decommissioned, so the FAA is establishing a “Point of Origin” to replace references to the Atlanta VORTAC in the Atlanta Class B description. The Point of Origin has the same latitude and longitude coordinates as the Atlanta VORTAC therefore, there is no change to the existing charted boundaries of the Atlanta Class B airspace area. All references to the Atlanta VORTAC in the Atlanta Class B airspace description (as published in FAA Order JO 7400.11F) are replaced by “Point of Origin.” This practice is consistent with other Class B airspace locations that do not have a suitable navigation aid located on the airport.

Class B airspace areas are published in paragraph 3000 of FAA Order JO 7400.11F dated August 10, 2021, and effective September 15, 2021, which is incorporated by reference in 14 CFR 71.1. The Class B airspace area listed in this document will be published subsequently in FAA Order JO 7400.11.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Rule

This action amends 14 CFR part 71 by editing the description of the Atlanta, GA, Class B airspace area (as published in FAA Order JO 7400.11F) to replace references to the “Atlanta VORTAC” with a “Point of Origin.” This action is necessary because the Atlanta VORTAC is scheduled to be decommissioned. The “Point of Origin” uses the same latitude/longitude position as the current Atlanta VORTAC location. The descriptions of the following seven Atlanta Class B airspace subareas are affected by the change: A, B, F, G, H, I, and J. The FAA is taking this action so that the currently charted boundaries of the Atlanta Class B airspace area are not affected by the decommissioning of the Atlanta VORTAC and for accuracy.

Because this action is an editorial change that does not alter the currently charted boundaries and altitudes, or the ATC procedures for the Hartsfield-Jackson Atlanta International Airport, notice and public procedure under 5 U.S.C. § 553(b) are unnecessary and contrary to the public interest.

FAA Order JO 7400.11, Airspace Designations and Reporting Points, is published yearly and effective on September 15.

Regulatory Notices and Analyses

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending the description of the Hartsfield-Jackson Atlanta International Airport, GA, Class B airspace area by changing the reference for defining the center point of the airspace from the “Atlanta VORTAC” to a “Point of Origin”, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is an editorial change that is not expected to cause any potentially significant environmental impacts. In accordance with FAA Order 1050.1F, paragraph 5-2 regarding Extraordinary Circumstances, the FAA has reviewed this action for factors and circumstances in which a normally categorically excluded action may have a significant environmental impact requiring further analysis. The FAA has determined no extraordinary circumstances exist that warrant preparation of an environmental assessment or environmental impact study.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11F, Airspace Designations and Reporting Points, signed August 10, 2021, and effective September 15, 2021, is amended as follows:

Paragraph 3000 Subpart B Class B Airspace.

* * * * *

ASO GA B Atlanta, GA

Hartsfield-Jackson Atlanta International Airport (Primary Airport)

(Lat. 33°38′12″ N, long. 84°25′40″ W)

Point of Origin

(Lat. 33°37′45″ N, long. 84°26′06″ W)

Boundaries

Area A. That airspace extending upward from the surface to and including 12,500 feet MSL, bounded on the east and west by a 7-mile radius of the Point of Origin, on the south by a line 4 miles south of and parallel to the Runway 10/28 localizer courses, and on the north by a line 4 miles north of and parallel to the Runway 08L/26R localizer courses; excluding the Atlanta Fulton County Airport-Brown Field, GA, Class D airspace area.

Area B. That airspace extending upward from 2,500 feet MSL to and including 12,500 feet MSL, bounded on the east and west by a 12-mile radius of the Point of Origin, on the south by a line 4 miles south of and parallel to the Runway 10/28 localizer courses, and on the north by a line 4 miles north of and parallel to the Runway 08L/26R localizer courses; excluding the Atlanta Fulton County Airport-Brown Field, GA, Class D airspace area and that airspace contained in Area A.

Area C. That airspace extending upward from 3,000 feet MSL to and including 12,500 feet MSL, bounded on the east by long. 84°00′32″ W, on the west by long. 84°51′38″ W, on the south by a line 8 miles south of and parallel to the Runway 10/28 localizer courses, and on the north by a line 4 miles north of and parallel to the Runway 08L/26R localizer courses; excluding that airspace contained in Areas A and B.

Area D. That airspace extending upward from 3,500 feet MSL to and including 12,500 feet MSL, bounded on the east by long. 84°00′32″ W, on the west by long. 84°51′38″ W, on the south by a line 4 miles north of and parallel to the Runway 08L/26R localizer courses, and on the north by a line 8 miles north of and parallel to the Runway 08L/26R localizer courses.

Area E. That airspace extending upward from 4,000 feet MSL to and including 12,500 feet MSL, bounded on the east by long. 83°54′04″ W, on the west by long. 84°57′41″ W, on the south by a line 12 miles south of and parallel to the Runway 10/28 localizer courses and on the north by a line 8 miles north of and parallel to the Runway 08L/26R localizer courses; excluding that airspace contained in Areas A, B, C, and D.

Area F. That airspace extending upward from 5,000 feet MSL to and including 12,500 feet MSL, within a 30-mile radius of the Point of Origin and bounded on the east by long. 83°54′04″ W, on the south by a line 8 miles north of and parallel to the Runway 08L/26R localizer courses, on the west by long. 84°57′41″ W, and on the north by a line 12 miles north of and parallel to the Runway 08L/26R localizer courses.

Area G. That airspace extending upward from 6,000 feet MSL to and including 12,500 feet MSL bounded on the north by a line 12 miles south of and parallel to the Runway 10/28 localizer courses, on the east by a line from lat. 33°25′21″ N, long. 84°16′49″ W direct to lat. 33°15′33″ N, long. 84°01′55″ W, on the south by a 30-mile radius of the Point of Origin, and on the west by a line from lat. 33°25′25″ N, long. 84°33′32″ W direct to lat. 33°18′26″ N, long. 84°42′56″ W and thence south via long. 84°42′56″ W.

Area H. That airspace extending upward from 5,000 feet MSL to and including 12,500 feet MSL, within a 30-mile radius of the Point of Origin south of a line 12 miles south of and parallel to the Runway 10/28 localizer courses, bounded on the west by long. 84°57′41″ W and on the east by long. 83°54′04″ W. excluding that airspace within the lateral limits of area G.

Area I. That airspace extending upward from 7,000 feet MSL to and including 12,500 feet MSL bounded on the north by the 30-mile radius of the Point of Origin, on the east by a line from lat. 33°50′59″ N, long. 84°16′38″ W direct to lat. 34°04′20″ N, long. 84°09′24″ W, on the south by a line 12 miles north of and parallel to the Runway 08L/26R localizer courses, and on the west by a line from lat. 33°50′59″ N, long. 84°34′14″ W direct to lat. 34°01′40″ N, long. 84°47′55″ W.

Area J. That airspace extending upward from 6,000 feet MSL to and including 12,500 feet MSL bounded on the north by a 30-mile radius of the Point of Origin, on the east by long. 83°54′04″ W, on the south by a line 12 miles north of and parallel to the Runway 08L/26R localizer courses, and on the west by long. 84°57′41″ W, excluding that airspace within the lateral limits of area I.

* * * * *

Scott M. Rosenbloom,
Manager, Airspace Rules and Regulations.

[FR Doc. 2022-09241 Filed 5-5-22; 8:45 am]

BILLING CODE 4910-13-P